FEDERAL COMMUNICATIONS COMMISSION

[DA 01-2451]

Clarification on Changes in Filing Procedures

AGENCY: Federal Communications Commission.

ACTION: Notice.

SUMMARY: This document clarifies two other notices that were published elsewhere in this issue as a result of numerous inquires that the Federal Communications Commission (the Commission) received concerning changes in the filing procedures.

ADDRESSES: Federal Communications Commission, 445 12th Street, SW., Washington, DC 20554.

FOR FURTHER INFORMATION CONTACT: Magalie Roman Salas, Secretary, FCC, (202) 418-0300.

SUPPLEMENTARY INFORMATION: This notice is issued as a result of inquiries that the Commission has received today about the Public Notices issued yesterday announcing changes in filing procedures (DA 01-2430; DA 01-2436).

The Commission clarifies that:

• No hand-delivered or messenger-delivered filings will be accepted today or tomorrow, October 18 and 19, at either 445 12th Street, SW., Washington, DC, or at Capitol Heights, MD. Hand-delivered or messenger-delivered filings will be accepted only at our Capitol Heights, MD, facility beginning Monday, October 22, 2001.

• The due date for any filings due at the Commission on October 18 and October 19, 2001 has been extended to Monday, October 22, 2001. This extension applies to both paper and electronic filings. This determination is consistent with past extensions of time that have been granted due to the Commission's early closing for inclement weather or other extraordinary situations.

• The procedures for filings stated in DA 01-2430, released October 17, 2001, remain in effect. Only the filing location has changed. These procedures stated, among other things, that filings enclosed in envelopes will not be accepted. Therefore, all hand-delivered or messenger-delivered filings at the Capitol Heights, MD, location will not be accepted for filing if they are enclosed in an envelope.

• We remind all parties that the Commission's unique agency zip code “20554” cannot be used for documents delivered by entities such as Federal Express or any other express mail service. In these circumstances, you must use the zip code “20024” as follows:

Federal Communications Commission, 445 12th Street, SW., Washington, DC 20024.

Filings and other documents sent by United States Postal Service should use the “20554” zip code.

The Commission continues to encourage its customers to make full use of the Commission's electronic filing systems to facilitate the filing of documents.

Federal Communications Commission.
Magalie Roman Salas,
Secretary.

[FR Doc. 01-26822 Filed 10-23-01; 8:45 am]

BILLING CODE 6712-01-P